DEPARTMENT OF THE INTERIOR

Bureau of Land Management

[L61400000.ER00000.LLOR936000; OMB Control Number 1004-0168]

Renewal of Approved Information Collection

AGENCY: Bureau of Land Management.

ACTION: 30-day Notice and Request for Comments.

SUMMARY: The Bureau of Land Management (BLM) has submitted an information collection request to the Office of Management and Budget (OMB) for a 3-year extension of OMB Control Number 1004-0168 under the Paperwork Reduction Act. This control number includes paperwork requirements in regulations that provide for the management of tramroads and logging roads over public lands administered by the BLM in western Oregon, including the Revested Oregon and California (O. and C.) Railroad Grant Lands and Reconveyed Coos Bay Wagon Road (CBWR) lands.

DATES: The OMB is required to respond to this information collection request within 60 days but may respond after 30 days. Therefore, written comments should be received on or before January 20, 2011 in order to be assured of consideration.

ADDRESSES: Please submit comments directly to the Desk Officer for the Department of the Interior (OMB #1004-0168), Office of Management and Budget, Office of Information and Regulatory Affairs, fax 202-395-5806, or by electronic mail at oira_docket@omb.eop.gov. Please provide a copy of your comments to the BLM via mail, fax, or electronic mail.

Mail: Bureau Information Collection Clearance Officer (WO-630), Department of the Interior, 1849 C Street, NW., Mail Stop 401 LS, Washington, DC 20240.

Fax: Jean Sonneman at 202-912-7102.

Electronic mail: jean_sonneman@blm.gov.

FOR FURTHER INFORMATION CONTACT: You may contact Sarah Bickford at 541-471-6694. Persons who use a telecommunication device for the deaf (TDD) may call the Federal Information Relay Service (FIRS) on 1-800-877-8339 You may also contact Ms. Bickford to obtain a copy, at no cost, of the regulations and forms that require this collection of information.

SUPPLEMENTARY INFORMATION: The following information is provided for the information collection:

Title: Tramroads and Logging Roads (43 CFR part 2810).

Form: Form OR 2812-6, Report of Road Use.

OMB Number: 1004-0168.

Type of Review: Extension of a currently approved information collection.

Abstract: This collection of information pertains to the management of tramroads and logging roads over public lands administered by the BLM, including the Revested O. and C. Railroad Grant Lands and Reconveyed CBWR lands. On these lands in western Oregon, the BLM Oregon State Office has authority under the Act of August 28, 1937 (43 U.S.C. 1181a and 1181b) and Subchapter V of the Federal Land Policy and Management Act (43 U.S.C. 1761-1771) to grant rights-of-way to private landowners to transport their timber over BLM-controlled roads. These rights-of-way are in the form of permits or reciprocal right-of-way agreements.

Each right-of-way permit or agreement requires the holder to provide the BLM with a certified statement, on Form OR 2812-6 (Report of Road Use), disclosing the amount of timber removed, the lands from which the timber was removed, and the BLM roads used to transport the timber. The BLM uses the information to determine the amount of charges for such use. Responses are mandatory.

Frequency of Collection: On occasion for all aspects of this information collection.

Annual Burden Hours: 272 responses with 8 hours per response totals 2,176 burden hours.

Annual Non-hour Burden Cost: There are no processing fees associated with this collection.

Comments: As required in 5 CFR 1320.8(d), the BLM published the 60-day notice in the Federal Register on June 16, 2010 (75 FR 34150) soliciting comments from the public and other interested parties. The comment period closed on August 16, 2010. The BLM did not receive any comments from the public in response to this notice, and did not receive any unsolicited comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB Control Number 1004-0168 in your correspondence. Before including your address, phone number, e-mail address, or other personal identifying information in your comment, be aware that your entire comment—including your personal identifying information—may be made publicly available at any time. While you can ask us in your comment to withhold your personal identifying information from public review, we cannot guarantee that we will be able to do so.

Jean Sonneman,
Acting Information Collection Clearance Officer.

[FR Doc. 2010-31968 Filed 12-20-10; 8:45 am]

BILLING CODE 4310-84-P